DEPARTMENT OF COMMERCE

International Trade Administration

Agency Information Collection Activities; Submission to the Office of Management and Budget (OMB) for Review and Approval; Comment Request; SABIT Participant Application, Participant Survey, Alumni Survey

AGENCY: International Trade Administration, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 22, 2021.

ADDRESSES: Interested persons are invited to submit written comments by email to Towanda Carey, ITA Paperwork Clearance Officer, International Trade Administration at Towanda.carey@trade.gov or PRAcomments@doc.gov. Please reference OMB Control Number 0625-0225 in the subject line of your comments. Do not submit Confidential Business Information or otherwise sensitive or protected information.

FOR FURTHER INFORMATION CONTACT: Requests for additional information or specific questions related to collection activities should be directed to Tracy M. Rollins, Director, SABIT Program, International Trade Administration, (202) 482-0392, tracy.rollins@trade.gov.

SUPPLEMENTARY INFORMATION:

I. Abstract

The Special American Business Internship Training (SABIT) Program of the Department of Commerce's International Trade Administration (ITA), is a key element in the U.S. Government's efforts to support the economic transition of Eurasia (the former Soviet Union) and to support economic growth in other regions of the world, including countries in Europe, South Asia, and the Middle East, et al. SABIT develops and implements two-week training programs in the United States for groups of up to 20 business and government professionals from Eurasia and other regions. These professionals meet with U.S. government agencies, non-governmental organizations and private sector companies in order to learn about various business practices and principles. This unique private sector-U.S. Government partnership was created in order to tap into the U.S. private sector's expertise and to assist developing regions in their transition to market-based economies while simultaneously boosting trade between the United States and other countries. SABIT also develops and implements virtual events for its alumni and other participants that provide industry-specific training on best practices for business and management, and fosters contacts with U.S. organizations. Participant applications are needed to enable SABIT to find the most qualified participants for the training programs. Participant exit questionnaires provide insight as to what the participants have learned, and they are used to improve the content and administration of future programs. Alumni success story reports track the success of the program as regards to business ties between the U.S. and the countries SABIT covers.

The closing date for participant applications is based upon the starting date of the program and is published with the application and on the program's website at www.trade.gov/sabit. Pursuant to section 632(a) of the Foreign Assistance Act of 1961, as amended, funding for the programs will be provided through the Agency for International Development (AID).

The SABIT Program has revised the collection instruments. The instruments are very similar to those used by SABIT in past years. However, some wording has been changed to reflect the changing needs of SABIT over time. The changes are relatively minor and most of them are rephrasing of wording. Instructions for filling out the form, methods of submission, and the order of questions have been revised on the Participant Application. These revisions are not expected to increase the response time to complete the instruments.

II. Method of Collection

Participant applications may be downloaded from the SABIT websites at www.trade.gov/sabit when available. Applications may be sent to program candidates via email upon request. Applications are collected via email. Participant exit questionnaires are given to program participants at the completion of programs electronically, although in rare situations, a paper questionnaire may be completed and submitted. Alumni success story reports are used internally by SABIT staff to record success information, but at times they may be sent to alumni to fill out and submit electronically.

III. Data

OMB Control Number: 0625-0225.

Form Number(s): ITA-4143P-3.

Type of Review: Regular submission (revision of a currently approved information collection).

Affected Public: Individuals or households; Business or other for-profit organizations.

Estimated Number of Respondents: 3,500.

Estimated Time per Response: Participant application, 3 hours; participant exit questionnaire, 1 hour; alumni survey, 1 hour.

Estimated Total Annual Burden Hours: 7,000.

Estimated Total Annual Cost to Public: $0.

Respondent's Obligation: Voluntary.

Legal Authority: Section 632(a) of the Foreign Assistance Act of 1961, as amended (the “FAA”), and pursuant to the Department of State, Foreign Operations, and Related Programs Appropriations Act, 2018 (Div. K, P.L. 115-141).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-25725 Filed 11-20-20; 8:45 am]

BILLING CODE 3510-HE-P